NUCLEAR REGULATORY COMMISSION

[ DOCKET NO. 72-25; NRC-2009-0076]

Department of Energy, Idaho Operations Office, Idaho Spent Fuel Facility; Issuance of Environmental Assessment and Finding of No Significant Impact Regarding the Proposed Exemption From Certain Regulatory Requirements of 10 CFR Part 20

AGENCY: Nuclear Regulatory Commission.

ACTION: Issuance of an Environmental Assessment and Finding of No Significant Impact.

FOR FURTHER INFORMATION CONTACT: Shana Helton, Senior Project Manager, Licensing Branch, Division of Spent Fuel Storage and Transportation, Office of Nuclear Material Safety and Safeguards (NMSS), U.S. Nuclear Regulatory Commission (NRC), Rockville, MD 20852. Telephone: (301) 492-3284; fax number: (301) 492-3348; e-mail: shana.helton@nrc.gov.

SUPPLEMENTARY INFORMATION: Pursuant to 10 CFR 20.2301, the U.S. Nuclear Regulatory Commission (NRC) is considering issuance of an exemption to the United States Department of Energy, Idaho Operations Office (DOE or applicant), from the requirements of 10 CFR 20.1501(c). Section 20.1501(c) requires that dosimeter processors hold current personnel dosimetry accreditation from the National Voluntary Laboratory Accreditation Program (NVLAP) of the National Institute of Standards and Technology. Exemption from this requirement of 10 CFR 20.1501(c) would allow DOE to use the DOE Laboratory Accreditation Program (DOELAP) process for personnel dosimetry at Idaho Spent Fuel (ISF) facility independent spent fuel storage installation (ISFSI), located at the Idaho National Engineering and Environmental Laboratory in Butte County, Idaho.

Pursuant to 10 CFR part 72, DOE submitted an application, including a Safety Analysis Report (SAR), by letter dated May 30, 2008, as supplemented, seeking NRC approval of the direct transfer of Special Nuclear Materials License No. 2512 (SNM-2512) for the ISF facility, currently held by Foster Wheeler Environmental Corporation (FWENC). The applicant is also seeking NRC approval of a conforming license amendment, which would reflect the proposed transfer. NRC staff is currently performing a review of the requested license transfer and conforming amendment.

Environmental Assessment (EA)

Identification of Proposed Action: As part of its request for a transfer of SNM-2512, DOE, on June 9, 2008, requested an exemption from the requirements of 10 CFR 20.1501(c)(1), which states in part that “All personnel dosimeters * * * that require processing * * * must be processed and evaluated by a dosimetry processor * * * (1) Holding current personnel dosimetry accreditation from the National Voluntary Laboratory Accreditation Program (NVLAP) of the National Institute of Standards and Technology.” Specifically, the applicant proposes allowing the DOELAP as an approved alternative. The NRC's authority to grant an exemption to its 10 CFR Part 20 radiation protection requirements is set forth in 10 CFR 20.2301.

Need for the Proposed Action: The applicant will receive control of SNM-2512 from FWENC, as described in its application and SAR, subject to approval of the pending license transfer application. The applicant is implementing programs and procedures necessary to operate the as-yet-to-be-constructed ISFSI and seeks to have those programs make efficient use of resources. One of the programs developed by DOE is the capability to monitor personnel occupational radioactive dose for routine and non-routine activities at the ISF facility. Personnel dosimetry requires processing by a qualified processing facility. DOE's preferred processing organization, which is accredited by DOELAP, currently processes dosimetry for the Fort St. Vrain ISFSI (docket no. 72-9) and the Three Mile Island ISFSI (docket no. 72-20), also under license to DOE. According to DOE's exemption request, DOELAP is deemed equivalent to NVLAP accreditation for the purpose of demonstrating compliance with 10 CFR 20.1501(c). Use of the NVLAP process at the ISF facility would place a burden upon DOE without any attendant health or safety benefit.

Environmental Impacts of the Proposed Action: The staff has examined both the NVLAP and DOELAP processing and standards. Both the NVLAP and DOELAP have similar requirements in that they incorporate similar test categories (type of radiation and energy levels), tolerance levels, bias, and performance criteria. The NRC staff concludes that the DOELAP process is an acceptable alternative to the NVLAP process required by 10 CFR 20.1501(c) for the ISF facility.

NUREG-1773, “Environmental Impact Statement for the Proposed Idaho Spent Fuel Facility at the Idaho National Engineering and Environmental Laboratory in Butte County, Idaho” (January 2004), considered the potential environmental impacts of licensing (including construction, operation, and decommissioning) this facility. The proposed exemption, substituting the DOELAP accreditation process for the NVLAP accreditation process, would not change the potential environmental effects assessed in the Final Environmental Impact Statement (FEIS) described in NUREG-1773. Use of the DOELAP accreditation process by DOE at the ISF facility is an action that is administrative and procedural in nature. The NRC concludes that there are no environmental impacts associated with the approval of the proposed action. Furthermore, in accordance with 10 CFR 20.2301, the NRC staff concludes that the use of the DOELAP accreditation process at the ISF facility would not result in any undue hazard to life or property.

Alternative to the Proposed Action: Since there are no significant environmental impacts associated with the proposed action, any alternatives with equal or greater environmental impacts are not evaluated. The alternative to the proposed action would be to deny approval of the 10 CFR 20.1501(c) exemption and, therefore, not allow use of the DOELAP. This alternative would have no significant environmental impact as well.

Agencies and Persons Consulted: The staff discussed this exemption request with Ms. Susan Burke, Idaho National Laboratory (INL) Coordinator for the State of Idaho, INL Oversight Program, on May 19, 2009. The State official had no comments regarding the environmental impact of the proposed action. NRC staff has determined that the proposed action will not affect listed species or critical habitat. Therefore, no consultation is required under Section 7 of the Endangered Species Act. Likewise, NRC staff has determined that the proposed action is not the type of activity that has potential to cause effects on historic properties. Therefore, no consultation is required under Section 106 of the National Historic Preservation Act.

Conclusion: The staff has reviewed the exemption request submitted by DOE. Allowing the use of DOELAP as an alternative to NVLAP would have no significant impact on the environment.

Finding of No Significant Impact

The environmental impacts of the proposed action have been reviewed in accordance with the requirements set forth in 10 CFR Part 51. Based upon the foregoing EA, the NRC finds that the proposed action of granting an exemption from 10 CFR 20.1501(c) so that DOE may use the DOELAP, rather than the NVLAP, as required by existing regulations, will not significantly impact the quality of the human environment. The NRC has determined not to prepare an environmental impact statement for the proposed exemption. Accordingly, it has been determined that a Finding of No Significant Impact is appropriate.

For further details with respect to the application, see the application dated May 30, 2008, and the request for the exemption dated June 9, 2008, available for public inspection at the Commission's Public Document Room (PDR), located at One White Flint North, Public File Area O1 F21, 11555 Rockville Pike (first floor), Rockville, Maryland. Publicly available records are accessible electronically from the Agencywide Documents Access and Management Systems (ADAMS) Public Electronic Reading Room on the Internet at the NRC Web site, http://www.nrc.gov/reading-rm/adams.html. The ADAMS Accession numbers for the application and exemption request are ML081630246 and ML081750395, respectively. Persons who do not have access to ADAMS or who encounter problems in accessing the documents located in ADAMS should contact the NRC PDR Reference staff by telephone at 1-800-397-4209, or 301-415-4737 or by e-mail to pdr.resource@nrc.gov.

Dated at Rockville, Maryland this 2nd day of June 2009.
For the Nuclear Regulatory Commission.
Shana Helton,
Senior Project Manager, Licensing Branch, Division of Spent Fuel Storage and Transport, Office of Nuclear Material Safety and Safeguards.

[FR Doc. E9-13577 Filed 6-9-09; 8:45 am]

BILLING CODE 7590-01-P